DEPARTMENT OF LABOR

Employment and Training Administration

[NAFTA—006194]

Domtar A.W., Port Edwards, WI; Notice of Termination

Pursuant to Title V of the North American Free Trade Agreement Implementation Act (Pub. L. 103-1) concerning transitional adjustment assistance, hereinafter called NAFTA-TAA and in accordance with Section 250(a), Subchapter D, Chapter 2, Title II, of the Trade Act of 1974, as amended (19 U.S.C. 2331), an investigation was initiated on May 8, 2002, in response to a petition filed on behalf of workers at Domtar A.W., Port Edwards, Wisconsin. Workers produced uncoated freesheet paper.

The petitioner has requested that the petition be withdrawn. Consequently, further investigation in this case would serve no purpose, and the investigation has been terminated.

Signed in Washington, DC this 19th day of August, 2002
Elliott S. Kushner,
Certifying Officer, Division of Trade Adjustment Assistance.

[FR Doc. 02-22964 Filed 9-9-02; 8:45 am]

BILLING CODE 4510-30-P